DEPARTMENT OF HEALTH AND HUMAN SERVICES

National Institutes of Health

Center for Scientific Review; Amended Notice of Meeting

Notice is hereby given of a change in the meeting of the Center for Scientific Review Special Emphasis Panel, December 3, 2012, 8:30 a.m. to December 4, 2012, 5:00 p.m., which was published in the Federal Register on November 1, 2012, 77 FR Pg. 66854-66855.

The meeting will be held November 27-28, 2012 at 8:30 a.m. and will end at 5:00 p.m. The meeting location remains the same. The meeting is closed to the public.

Dated: November 16, 2012
Melanie J. Gray,
Program Analyst, Office of Federal Advisory Committee Policy.

[FR Doc. 2012-28368 Filed 11-21-12; 8:45 am]

BILLING CODE 4140-01-P